DEPARTMENT OF ENERGY

Federal Energy Regulatory Commission

[Docket No. RP99-301-080]

ANR Pipeline Company; Notice of Material Deviation Filing

July 9, 2003.

Take notice that on July 1, 2003, ANR Pipeline Company (ANR), tendered a non-conforming service agreement with Aquila, Inc. for filing, and as part of its FERC Gas Tariff, Second Revised No. 1, the following tariff sheet:

Thirteenth Revised Sheet No. 190

ANR requested that the non-conforming agreement and the subject revised tariff sheet be accepted and approved effective as of July 1, 2003.

Any person desiring to protest said filing should file a protest with the Federal Energy Regulatory Commission, 888 First Street, NE., Washington, DC 20426, in accordance with § 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 16, 2003.

Magalie R. Salas,
Secretary.

[FR Doc. 03-17895 Filed 7-15-03; 8:45 am]

BILLING CODE 6717-01-P